DEPARTMENT OF THE INTERIOR

Bureau of Land Management

[OR-050-00-5320-HQ: GPO-0298]

Realty Action: Sale of Public Land in Deschutes County, OR

AGENCY: Bureau of Land Management, Interior.

ACTION: Notice of realty action, sale of public land.

SUMMARY: The following public land is being considered for sale at the appraised fair market value, under section 203 of the Federal Land Policy and Management Act of 1976 (90 Stat. 2750, 43 U.S.C. 1713). The parcel has been identified as suitable for public sale in the Brothers—La Pine Resource Management Plan.

Willamette Meridian

T. 15 S., R. 12 E., Section 1, SE¼NW¼; (portion), Small Tract, Comprising less than (½ acre

This land is being considered for direct sale to the adjacent landowner to resolve an unintentional trespass. The encroachment involves a portion of the driveway and garage that were inadvertently placed over the property line due to the incorrect location of the property corner. Federal regulations describe procedures to address unauthorized use which include provisions to reimburse BLM for administrative costs.

The affected public land would be surveyed and include an area measuring 50 feet by 400 feet. This configuration would minimize impacts to public resources, include all improvements and provide enough land to satisfy county set back requirements. A subsequent lot line adjustment processed through the Deschutes County Community Development Department would incorporate this parcel with the existing tax lot.

This parcel is included in an area described in the BLM land use plan with a Zone 3 designation. Lands in this zone are generally scattered, isolated tracts with low or unknown resource values. These lands are potentially suitable for exchange or sale if significant public values are not identified.

The buyer has expressed an interest to obtain the federal mineral estate which is offered under the authority of section 209(b) of the Federal Land Policy and Management Act of 1976. In addition to the full purchase price, a non-refundable fee of $50 is necessary to purchase the mineral estate which would be conveyed simultaneously with the sale of the land.

The land described is segregated from appropriation under the public land laws, including the mining laws, pending disposition of this action or 270 days from the date of publication of this notice, whichever occurs first.

DATES: This office will prepare an Environmental Assessment report to evaluate the proposal, describe alternatives and determine impacts and mitigating measures. On or before September 6, 2000, interested persons may submit comments. In the absence of any objections, this proposal will become the determination of the Department of the Interior.

ADDRESSES: Comments should be submitted to the Prineville District Manager, P.O. Box 550, Prineville, Oregon 97754.

FOR FURTHER INFORMATION CONTACT: Detailed information concerning this public land sale is available from Phil Paterno, Realty Specialist, Deschutes Resource Area at the above address, phone (541) 416-6724.

Dated: July 21, 2000.
Robert Towne,
Acting District Manager.

[FR Doc. 00-19100 Filed 7-27-00; 8:45 am]

BILLING CODE 4310-33-M